DEPARTMENT OF THE INTERIOR

Bureau of Land Management

[14XL LLIDI00000-L10200000-PH0000-LXSSD0090000 241A 4500063890]

Notice of Public Meeting, Idaho Falls District Resource Advisory Council Meeting

AGENCY: Bureau of Land Management, Interior.

ACTION: Notice of Public Meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Idaho Falls, Idaho, on May 20-21, 2014, for a two-day meeting at the Upper Snake Field Office, 1405 Hollipark Drive, Idaho Falls, Idaho. The first day will begin at 10:00 a.m. and adjourn at 4:30 p.m. The second day will begin at 8:00 a.m. and adjourn around 2:30 p.m.

SUPPLEMENTARY INFORMATION: The 15-member Council advises the Secretary of the Interior, through the BLM, on a variety of planning and management issues associated with public land management in the BLM Idaho Falls District, which covers eastern Idaho.

Items on the agenda will include: an overview of current issues affecting the BLM, public comment period, a tribal treaty right presentation and discussion of the Big Desert including fire history and fuel break projects. At 8:00 a.m. on May 21, the RAC will meet at the Upper Snake Field Office and depart for a tour of the Big Desert to view fuels projects and Big Southern Butte. Agenda items and location may change due to weather and other environmental circumstances.

All meetings are open to the public. The public may present written comments to the Council. Each formal Council meeting will also have time allocated for hearing public comments (10:00-10:30 a.m. on May 20). Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. Email: sawheeler@blm.gov.

Dated: April 9, 2014.
Sarah Wheeler,
RAC Coordinator, Idaho Falls District.

[FR Doc. 2014-08594 Filed 4-15-14; 8:45 am]

BILLING CODE 4310-GG-P